AGENCY FOR INTERNATIONAL DEVELOPMENT

Agency Information Collection Activities; Submission to the Office of Management and Budget (OMB) for Review and Approval; Collection Instruments for the Board for International Food and Agricultural Development

AGENCY: United States Agency for International Development.

ACTION: Notice of information collection.

SUMMARY: U.S. Agency for International Development (USAID), as part of its continuing effort to reduce paperwork and respondent burden, invites the general public and other Federal agencies to take this opportunity to comment on the following new information collection, as required by the Paperwork Reduction Act of 1995. Comments are requested concerning: Whether the proposed or continuing collections of information are necessary for the proper performance of the functions of the agency, including whether the information shall have practical utility; the accuracy of the burden estimates; ways to enhance the quality, utility, and clarity of the information collected; and ways to minimize the burden of the collection of the information on the respondents.

DATES: Written comments and recommendations for the proposed information collection should be sent within 30 days of publication of this notice to www.reginfo.gov/public/do/PRAMain. Find this particular information collection by selecting “Currently under 30-day Review—Open for Public Comments” or by using the search function.

ADDRESSES: Interested persons are invited to submit comments regarding the proposed information collection to Clara Cohen, USAID, Bureau for Resilience and Food Security, (USAID/RFS/AA) at ccohen@usaid.gov.

FOR FURTHER INFORMATION CONTACT: Clara Cohen, Executive Director, BIFAD, USAID Bureau for Resilience and Food Security, ccohen@usaid.gov or 202-712-0119.

SUPPLEMENTARY INFORMATION:

I. Abstract

The Board for International Food and Agricultural Development (BIFAD) is a seven-member, presidentially appointed advisory board to USAID established in 1975 under Title XII of the Foreign Assistance Act, as amended, to ensure that USAID brings the assets of U.S. universities to bear on development challenges in agriculture and food security and supports their representation in USAID programming. BIFAD convenes diverse thought leadership through its public meetings around emerging issues related to food security, agricultural development, and nutrition. BIFAD has a strong interest in engaging with a broad and diverse stakeholder community, ensuring diverse participation in its events, and understanding how its public events and commissioned materials are used. A BIFAD support mechanism, implemented by Tetra Tech, also seeks to understand how effectively it is providing support to new BIFAD members through its orientation program.

The following six forms were developed:

1. Opt-in process for individuals electing to join a stakeholder database for Board for International Food and Agricultural Development (BIFAD), to receive occasional updates about BIFAD-led events and resources. for the stakeholder database and to better understand the types of participants reached through BIFAD activities. This information is important as BIFAD and USAID strive to diversify outreach of these activities.

2. An event registration form to facilitate the registration process for events hosted or co-hosted by the Board for International Food and Agricultural Development (BIFAD). This data will be collected by the BIFAD Support Contract implementer, Tetra Tech (as required in the Activity Monitoring, Evaluation, and Learning Plan) to facilitate event registration and to better understand the types of participants reached through BIFAD events. This information is important as BIFAD and USAID strive to diversify outreach of these activities.

3. A form to collect participant feedback following events hosted or co-hosted by the Board for International Food and Agricultural Development (BIFAD), related to participant reactions/level of satisfaction and intent to apply information to their work. This data will be collected by the BIFAD Support Contract implementer, Tetra Tech (as required in the Activity Monitoring, Evaluation, and Learning Plan) to inform BIFAD and USAID about participant engagement in BIFAD-supported activities.

4. A form to measure participant feedback before and after the new-member orientation process for the Board for International Food and Agricultural Development (BIFAD). The surveys will be administered to new BIFAD members with data collected by the BIFAD Support Contract implementer, Tetra Tech (as required in the Activity Monitoring, Evaluation, and Learning Plan) and maintained by Tetra Tech according to privacy and information protection protocols. This information is important as BIFAD and USAID strive to strengthen the new member orientation experience for the Board.

5. A form to collect information necessary when coordinating with speakers and authors for BIFAD-supported events and reports, while also collecting data to understand how well BIFAD is engaging a diverse community of experts. All speakers and authors will be asked to complete the survey with data collected by the BIFAD Support Contract implementer, Tetra Tech (as required in the Activity Monitoring, Evaluation, and Learning Plan) and maintained by Tetra Tech according to privacy and information protection protocols. This information is important as BIFAD and USAID strive to diversify engagement and to consistently collect information needed for planning and coordination with event speakers.

6. A form to collect information about BIFAD event participants' or report/product users' intent to use the information presented to inform their work, teaching, or research.

II. Method of Collection

Electronic. The data will be collected and maintained by the BIFAD Support Contract implementer, Tetra Tech, Inc., as per the Activity Monitoring, Evaluation, and Learning Plan.

III. Data

Number: 1.

Title: BIFAD Stakeholder Database Opt-in Form.

OMB Number: Not yet known.

Expiration Date: Not yet known.

Type of Request: New collection.

Form Number: Not yet known.

Affected Public: Individuals.

Estimated Number of Respondents: 1,000.

Estimated Total Annual Burden Hours: 50.

Number: 2.

Title: BIFAD Event Registration Form.

OMB Number: Not yet known.

Expiration Date: Not yet known.

Type of Request: New collection.

Form Number: Not yet known.

Affected Public: Individuals.

Estimated Number of Respondents: 1,000.

Estimated Total Annual Burden Hours: 80.

Number: 3.

Title: BIFAD Post-Event Feedback Survey.

OMB Number: Not yet known.

Expiration Date: Not yet known.

Type of Request: New collection.

Form Number: Not yet known.

Affected Public: Individuals.

Estimated Number of Respondents: 500.

Estimated Total Annual Burden Hours: 40 hours.

Number: 4.

Title: BIFAD New Member Orientation Survey.

OMB Number: Not yet known.

Expiration Date: Not yet known.

Type of Request: New collection.

Form Number: Not yet known.

Affected Public: Individuals.

Estimated Number of Respondents: 14.

Estimated Total Annual Burden Hours: 2.1.

Number: 5.

Title: BIFAD Speaker Information Form.

OMB Number: Not yet known.

Expiration Date: Not yet known.

Type of Request: New collection.

Form Number: Not yet known.

Affected Public: Individuals.

Estimated Number of Respondents: 30.

Estimated Total Annual Burden Hours: 4.5.

Number: 6.

Title: BIFAD Product Feedback Form.

OMB Number: Not yet known.

Expiration Date: Not yet known.

Type of Request: New collection.

Form Number: Not yet known.

Affected Public: Individuals.

Estimated Number of Respondents: 500.

Estimated Total Annual Burden Hours: 25.

IV. Request for Comments

Comments are invited on: (1) Whether the proposed collection of information is necessary for the proper performance of the functions of USAID, including whether the information collected has practical utility; (2) the accuracy of USAID's estimate of the burden (including both hours and cost) of the proposed collection of information; (3) ways to enhance the quality, utility, and clarity of the information to be collected; and (4) ways to minimize the burden of the collection of information on respondents.

Comments submitted in response to this notice will be summarized and included in the request for OMB approval of this information collection. The comments will also become a matter of public record.

Michael Vernon Michener,
Deputy Assistant to the Administrator, Bureau for Resilience and Food Security, U.S. Agency for International Development.

[FR Doc. 2022-17725 Filed 8-17-22; 8:45 am]

BILLING CODE 6116-01-P